Title 3—

The President

Executive Order 13425 of February 14, 2007

Trial of Alien Unlawful Enemy Combatants by Military

Commission

By the authority vested in me as President by the Constitution and the laws of the United States of America, including the Military Commissions Act of 2006 (Public Law 109-366), the Authorization for Use of Military Force (Public Law 107-40), and section 948b(b) of title 10, United States Code, it is hereby ordered as follows:

Section 1. Establishment of Military Commissions. There are hereby established military commissions to try alien unlawful enemy combatants for offenses triable by military commission as provided in chapter 47A of title 10.

Sec. 2. Definitions. As used in this order:

(a) “unlawful enemy combatant” has the meaning provided for that term in section 948a(1) of title 10; and

(b) “alien” means a person who is not a citizen of the United States.

Sec. 3. Supersedure. This order supersedes any provision of the President's Military Order of November 13, 2001 (66 Fed. Reg. 57,833), that relates to trial by military commission, specifically including:

(a) section 4 of the Military Order; and

(b) any requirement in section 2 of the Military Order, as it relates to trial by military commission, for a determination of:

(i) reason to believe specified matters; or

(ii) the interest of the United States.

Sec. 4. General Provisions. (a) This order shall be implemented in accordance with applicable law and subject to the availability of appropriations.

(b) The heads of executive departments and agencies shall provide such information and assistance to the Secretary of Defense as may be necessary to implement this order and chapter 47A of title 10.

(c) This order is not intended to, and does not, create any right or benefit, substantive or procedural, enforceable at law or in equity by any party against the United States, its departments, agencies, entities, officers, employees, or agents, or any other person.

THE WHITE HOUSE,

February 14, 2007.

[FR Doc. 07-780

Filed 2-16-07; 8:45 am]

Billing code 3195-01-P